THE NATIONAL FOUNDATION ON THE ARTS AND THE HUMANITIES

Meetings of Humanities Panel

AGENCY: The National Endowment for the Humanities.

ACTION: Notice of additional meeting.

SUMMARY: Pursuant to the provisions of the Federal Advisory Committee Act (Pub. L. 92-463, as amended), notice is hereby given that the following meeting of the Humanities Panel will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meeting is for the purpose of advising the agency, under the National Foundation on the Arts and the Humanities Act of 1965, as amended, on the development of humanities programming and content for an upcoming Bridging Cultures Bookshelf project on the subject of Muslim history and cultures, including discussion of the early planning stages of the project and strategies for shaping and implementing the program. Because the proposed meeting will consider information that is likely to disclose information the premature disclosure of which would be likely to significantly frustrate implementation of a proposed agency action, pursuant to authority granted me by the Chairman's Delegation of Authority to Close Advisory Committee meetings, dated July 19, 1993, I have determined that these meetings will be closed to the public pursuant to subsection (c)(9)(B) of section 552b of Title 5, United States Code.

1. Date: January 21, 2011.

Time: 9 a.m. to 4:30 p.m.

Room: 527.

Program: This meeting will provide advice about the Bridging Cultures Bookshelf project on the subject of Muslim history and cultures.

Michael P. McDonald,
Advisory Committee, Management Officer.

[FR Doc. 2011-206 Filed 1-7-11; 8:45 am]

BILLING CODE 7536-01-P